DEPARTMENT OF ENERGY

Federal Energy Regulatory Commission

[Docket No. RP98-40-029]

Panhandle Eastern Pipe Line Company; Notice of Refund Report

February 1, 2002.

Take notice that on January 25, 2002, Panhandle Eastern Pipe Line Company (Panhandle) filed a Refund Report in the above-referenced docket pursuant to a settlement approved by the Commission on September 13, 2001. On December 28, 2001, Panhandle refunded to its jurisdictional customers their allocated share of the refunds of Kansas ad valorem taxes Panhandle received from its producer suppliers in accordance with the settlement.

Panhandle states that Schedules 1 and 2 show the refunds Settling Working Interest Owners made, the Jurisdictional/Non-Jurisdictional allocation, and the derivations of the Jurisdictional Sales Customer refund amounts. These schedules reflect the Missouri Public Service Commission's (MoPSC) election to opt-out off discrete portions of the settlement. Panhandle adjusted the jurisdictional customer distribution allocation to reflect MoPSC's election. Schedule 3 includes refund statements for large and small first sellers, that show the refund amounts due, including additional interest for the period February 1, 2001 to October 15, 2001. Schedule 4 lists the Non-Settling First Sellers that have not provided refunds under the settlement. Panhandle provided copies of its filing to all parties and respective State Regulatory Commissions.

Any person desiring to protest said filing should file a protest with the Federal Energy Regulatory Commission, 888 First Street, NE., Washington, DC 20426, in accordance with Section 385.211 of the Commission's Rules and Regulations. All such protests must be filed on or before February 22, 2002. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-2976 Filed 2-6-02; 8:45 am]

BILLING CODE 6717-01-P